DEPARTMENT OF HOMELAND SECURITY

Coast Guard

33 CFR Part 167

[USCG-2007-0057]

Port Access Route Study of Potential Vessel Routing Measures To Reduce Vessel Strikes of North Atlantic Right Whales; Correction

AGENCY: Coast Guard, DHS.

ACTION: Notice of study; request for comments; correction.

SUMMARY: The Coast Guard is correcting a notice of study and request for comments that appeared in the Federal Register on November 19, 2007 (72 FR 64968). That notice informed the public the Coast Guard is conducting a Port Access Route Study (PARS) on the area east and south of Cape Cod, Massachusetts, to include the northern right whale critical habitat, mandatory ship reporting system area, and the Great South Channel including Georges Bank out to the exclusive economic zone (EEZ) boundary. The purpose of the PARS is to analyze potential vessel routing measures that might help reduce ship strikes with the highly endangered North Atlantic right whale while minimizing any adverse effects on vessel operations. The recommendations of the study will inform the Coast Guard and may lead to appropriate international actions.

DATES: Comments and related material must reach the Docket Management Facility on or before January 18, 2008.

FOR FURTHER INFORMATION CONTACT: If you have questions on the notice of study, call Mr. George Detweiler, Coast Guard Division of Navigation Systems, 202-372-1566, or send e-mail to George.H.Detweiler@uscg.mil. If you have questions on viewing or submitting material to the docket, call Ms. Renee K. Wright, Program Manager, Docket Operations, telephone 202-366-9826.

SUPPLEMENTARY INFORMATION: In Federal Register Volume 72, Number 222, appearing on page 64969 on Monday, November 19, 2007, the following correction is made:

1. On page 64969, in the third column, under “What are the timeline, study area, and processes of this PARS?”, remove the words “and must be completed by December 2007.”

Dated: November 20, 2007.
Stefan G. Venckus,
Chief, Office of Regulations and Administrative Law, United States Coast Guard.

[FR Doc. E7-23050 Filed 11-26-07; 8:45 am]

BILLING CODE 4910-15-P